DEPARTMENT OF ENERGY

Federal Energy Regulatory Commission

[Docket No. ER01-3083-000]

Niagara Mohawk Power Corporation; Notice of Filing

September 21, 2001.

Take notice that on September 19, 2001, Niagara Mohawk Power Corporation (NMPC), pursuant to Section 205 of the Federal Power Act and Part 35 of the Commission's regulations, tendered for filing and Commission acceptance the First Revision of the Interconnection Agreement for Nine Mile Point Unit No. 2 nuclear generating station (NMP-2) between NMPC, New York State Electric & Gas Corporation (NYSEG), Long Island Lighting Company d/b/a LIPA (LIPA), and Nuclear LLC, designated Service Agreement No. 309 of the NYISO OATT. On July 6, 2001, the Commission accepted the NMP-2 Interconnection Agreement for filing, effective on the date of closing, and directed NMPC to submit a timely filing, if necessary, to reflect NYSEG's ownership interest in the NMP-2. The filing of First Revision of the NMP-2 Interconnection Agreement complies with that direction.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 5, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24147 Filed 9-26-01; 8:45 am]

BILLING CODE 6717-01-P